DEPARTMENT OF ENERGY

[OE Docket No. TPF-01]

Application for Proposed Project for Clean Line Plains & Eastern Transmission Line

AGENCY: Office of Electricity Delivery and Energy Reliability, DOE.

ACTION: Notice of Application.

SUMMARY: The Department of Energy (DOE) requests public comment on the first complete application submitted in response to its June 10, 2010 Request for Proposals for New or Upgraded Transmission Line Projects Under Section 1222 of the Energy Policy Act of 2005 in the Federal Register (75 FR 32940) (2010 RFP). In response to the 2010 RFP, Clean Line Energy Partners, LLC, submitted an application for its Plains & Eastern Clean Line project. The project would include an overhead ±600-kilovolt (kV) high voltage, direct current electric transmission system and associated facilities with the capacity to deliver approximately 3,500 megawatts primarily from renewable energy generation facilities in the Oklahoma and Texas Panhandle regions to load-serving entities in the Mid-South and Southeast United States via an interconnection with the Tennessee Valley Authority electrical grid. DOE has concluded that Clean Line's application was responsive to the 2010 RFP and is making it available for public review.

DATES: Comments on the application must be submitted on or before June 12, 2015.

ADDRESSES: Written comments should be addressed as follows: 1222 Program, Office of Electricity Delivery and Energy Reliability (OE-20), U.S. Department of Energy, 1000 Independence Avenue SW., Washington, DC 20585. Electronic comments can be emailed to plainsandeastern@hq.doe.gov.

FOR FURTHER INFORMATION CONTACT: Angela Colamaria at 202-287-5387 or via electronic mail at Angela.Colamaria@hq.doe.gov.

SUPPLEMENTARY INFORMATION: Pursuant to section 1222 of the Energy Policy Act of 2005 (EPAct) (42 U.S.C. 16421), the Secretary of Energy, acting through the Southwestern Power Administration (Southwestern) or the Western Area Power Administration (Western), has the authority to design, develop, construct, operate, maintain, or own, or participate with other entities in designing, developing, constructing, operating, maintaining, or owning two types of projects: (a) Electric power transmission facilities and related facilities needed to upgrade existing transmission facilities owned by Southwestern or Western (42 U.S.C. 16421(a)), or (b) new electric power transmission facilities and related facilities located within any State in which Southwestern or Western operates (42 U.S.C. 16421(b)). In carrying out either type of section 1222 project (Project), the Secretary may accept and use funds contributed by another entity for the purpose of executing the Project (42 U.S.C. 16421(c)).

In order to exercise the authority to engage in these activities under section 1222, the Secretary, in consultation with the applicable Power Marketing Administrator, must first determine that a proposed Project satisfies certain statutory criteria:

i. The proposed Project must be either:

(A) Located in an area designated under section 216(a) of the Federal Power Act (16 U.S.C. 824p(a)) and will reduce congestion of electric transmission in interstate commerce; or

(B) Necessary to accommodate an actual or projected increase in demand for electric transmission capacity;

ii. The proposed Project must be consistent with both:

(A) Transmission needs identified, in a transmission expansion plan or otherwise, by the appropriate Transmission Organization (as defined in the Federal Power Act, 16 U.S.C. 791a et seq.) if any, or approved regional reliability organization; and

(B) Efficient and reliable operation of the transmission grid;

iii. The proposed Project will be operated in conformance with prudent utility practice;

iv. The proposed Project will be operated by, or in conformance with the rules of, the appropriate Transmission Organization, if any; or if such an organization does not exist, regional reliability organization; and

v. The proposed Project will not duplicate the functions of existing transmission facilities or proposed facilities which are the subject of ongoing or approved siting and related permitting proceedings.

In June 2010, DOE issued Request for Proposals for New or Upgraded Transmission Line Projects Under Section 1222 of the Energy Policy Act of 2005 (75 FR 32940) (2010 RFP). To be responsive to the 2010 RFP, the application must demonstrate how the proposed Project meets all of the above statutory criteria, as well as several additional criteria, including, but not limited to, the following:

1. Whether the Project is in the public interest;

2. Whether the Project will facilitate the reliable delivery of power generated by renewable resources;

3. The benefits and impacts of the Project in each state it traverses, including economic and environmental factors;

4. The technical viability of the Project, considering engineering, electrical, and geographic factors; and

5. The financial viability of the Project.

In response to the 2010 RFP, Clean Line Energy Partners LLC of Houston, Texas, the parent company of Plains and Eastern Clean Line LLC and Plains and Eastern Clean Line Oklahoma LLC (collectively referred to with its subsidiaries as Clean Line or the Applicant) submitted a proposal to DOE in July 2010 for the Plains & Eastern Clean Line Project. In August 2011, Clean Line modified the proposal. In December 2014, DOE requested additional information from the Applicant to supplement and update its original application. This “Part II” application and other documentation are now available for a 45-day public comment period.

Clean Line proposes to construct an overhead ±600-kilovolt (kV), high voltage direct current (HVDC) electric transmission system and associated facilities with the capacity to deliver approximately 3,500 megawatts primarily from renewable energy generation facilities in the Oklahoma and Texas Panhandle regions to load-serving entities in the Mid-South and Southeast United States via an interconnection with the Tennessee Valley Authority electrical grid. Major associated facilities identified in the application consist of converter stations; an approximate 720-mile, ±600kV HVDC transmission line; an alternating current (AC) collection system; and access roads. Clean Line requests that Southwestern participate in development of the facilities in Oklahoma and Arkansas. As part of their environmental review of the project pursuant to the National Environmental Policy Act (NEPA), DOE has identified and analyzed potential environmental impacts for several additional alternatives. These alternatives include an Arkansas converter station (capable of supplying an additional 500 megawatts of energy into the Arkansas electrical grid) and alternative routes for the HVDC transmission line.

Procedural Matters: Prior to making a determination whether or not to participate in the proposed Project, DOE, in consultation with Southwestern, must evaluate the proposed Project for compliance with section 1222 of EPAct, the criteria in the 2010 RFP, and NEPA. On December 21, 2012, DOE issued a Notice of Intent to Draft an Environmental Impact Statement (EIS; 77 FR 75623) pursuant to NEPA. On December 17, 2014, DOE issued a Notice of Availability and announced public hearings for the Draft EIS (79 FR 75132). DOE made the Draft EIS available on DOE's Plains & Eastern EIS Web site (www.PlainsandEasternEIS.com) and the DOE NEPA Web site (www.energy.gov/nepa). The Draft EIS assesses the potential environmental effects of participating in the proposed Project. DOE hosted fifteen public hearings across the proposed Project area. The public comment period for the NEPA review is scheduled to end on April 20, 2015. DOE will address the public comments in the Final EIS, which will inform the Department's determination.

In addition to conducting a NEPA review, DOE is conducting due diligence on other factors related to the statutory criteria identified above. DOE's review will include making all required statutory findings and will consider all criteria listed in section 1222 of EPAct, as well as all factors included in DOE's 2010 RFP. This due diligence is the reason for today's notice. DOE is requesting comments on whether the proposed Project meets the statutory criteria and the factors identified within the 2010 RFP.

Any person may comment on the application by filing such comment at the address provided above. Copies of the application are available by accessing the program Web site at http://www.energy.gov/oe/services/electricity-policy-coordination-and-implementation/transmission-planning/section-1222-0.

Issued in Washington, DC, on April 23, 2015.
Patricia A. Hoffman,
Principal Deputy Assistant Secretary, Office of Electricity Delivery and Energy Reliability.

[FR Doc. 2015-09941 Filed 4-27-15; 8:45 am]

BILLING CODE 6450-01-P